DEPARTMENT OF COMMERCE

National Oceanic and Atmospheric Administration

RIN 0648-XG992

North Pacific Fishery Management Council; Public Meeting

AGENCY: National Marine Fisheries Service (NMFS), National Oceanic and Atmospheric Administration (NOAA), Commerce.

ACTION: Notice of public meeting.

SUMMARY: The North Pacific Fishery Management Council (Council) Bering Sea Fishery Ecosystem Plan Team will meet May 6, 2019 through May 7, 2019.

DATES: The meeting will be held on Monday, May 6, 2019 through Tuesday, May 7, 2019, from 9 a.m. to 5 p.m. Pacific Standard Time.

ADDRESSES: The meeting will be held in the Observer Training Room (1055), at the Alaska Fisheries Science Center, 7600 Sand Point Way NE, Seattle, WA 98115. Teleconference number is (907) 245-3900, pin 2809.

Council address: North Pacific Fishery Management Council, 605 W 4th Ave., Suite 306, Anchorage, AK 99501-2252; telephone: (907) 271-2809.

FOR FURTHER INFORMATION CONTACT: Diana Evans, Council staff; telephone: (907) 271-2806.

SUPPLEMENTARY INFORMATION:

Agenda

Monday, May 6, 2019 to Tuesday, May 7, 2019

The agenda will include: (a) Core Fishery Ecosystem Plan (FEP) maintenance; (b) FEP objectives; (c) development of action module workplan; (d) outreach and communication; and (e) other business. The agenda is subject to change, and the latest version will be posted at meetings.npfmc.org prior to the meeting, along with meeting materials.

Public Comment

Public comment letters will be accepted and should be submitted either electronically to meetings.npfmc.org/meeting/details/723 or through the mail: North Pacific Fishery Management Council, 605 W 4th Ave., Suite 306, Anchorage, AK 99501-2252.

Special Accommodations

These meetings are physically accessible to people with disabilities. Requests for sign language interpretation or other auxiliary aids should be directed to Shannon Gleason at (907) 271-2809 at least 7 working days prior to the meeting date.

Dated: April 17, 2019.
Tracey L. Thompson,
Acting Deputy Director, Office of Sustainable Fisheries, National Marine Fisheries Service.

[FR Doc. 2019-08057 Filed 4-19-19; 8:45 am]

BILLING CODE 3510-22-P